OFFICE OF PERSONNEL MANAGEMENT

Excepted Service

AGENCY: Office of Personnel Management.

ACTION: Notice.

SUMMARY: This gives notice of positions placed or revoked under Schedules A and B, and placed under Schedule C in the excepted service, as required by Civil Service Rule VI, Exceptions from the Competitive Service.

FOR FURTHER INFORMATION CONTACT: Suzy Barker, Staffing Reinvention Office, Employment Service (202) 606-0830.

SUPPLEMENTARY INFORMATION: The Office of Personnel Management published its last monthly notice updating appointing authorities established or revoked under the Excepted Service provisions of 5 CFR 213 on May 22, 2000 (65 FR 32133). Individual authorities established or revoked under Schedules A and B and established under Schedule C between April 1, 2000, and April 30, 2000, appear in the listing below. Future notices will be published on the fourth Tuesday of each month, or as soon as possible thereafter. A consolidated listing of all authorities as of June 30 will also be published.

Schedule A

No Schedule A authorities were established or revoked during April 2000.

Schedule B

No Schedule B authorities were established or revoked during April 2000.

Schedule C

The following Schedule C authorities were established during April 2000.

Department of Agriculture

Confidential Assistant to the Assistant Secretary for Congressional Relations. Effective April 10, 2000.

Confidential Assistant to the Administrator, Animal Plant and Health Inspection Service. Effective April 13, 2000.

Confidential Assistant to the Administrator, Agricultural Research Service. Effective April 20, 2000.

Staff Assistant to the Director, Office of Communications. Effective April 20, 2000.

Special Assistant to the Administrator, Food and Safety Inspection Service. Effective April 28, 2000.

Department of the Army (DOD)

Assistant for Public Liaison to the Secretary of the Army. Effective April 10, 2000.

Department of Commerce

Confidential Assistant to the Under Secretary for Oceans and Atmosphere. Effective April 18, 2000.

Senior Advisor to the Deputy Assistant Secretary for Service Industries and Finance, International Trade Administration. Effective April 18, 2000.

Department of Defense

Staff Assistant to the Deputy Assistant Secretary of Defense (Inter-American Affairs). Effective April 6, 2000.

Defense Fellow to the Special Assistant to Secretary of Defense for White House Liaison. Effective April 24, 2000.

Confidential Assistant to the Deputy Secretary of Defense. Effective April 28, 2000.

Department of Education

Special Assistant to the Assistant Secretary, Office of Civil Rights. Effective April 3, 2000.

Confidential Assistant to the Director, Scheduling and Briefing Staff. Effective April 6, 2000.

Confidential Assistant to the Senior Advisor to the Secretary. Effective April 14, 2000.

Confidential Assistant to the Director of Scheduling and Briefing, Office of the Secretary. Effective April 14, 2000.

Confidential Assistant to the Deputy Secretary. Effective April 20, 2000.

Secretary's Regional Representative, Region V, Chicago, IL to the Deputy Assistant Secretary. Effective April 28, 2000.

Department of Energy

Public Affairs Specialist to the Director, Office of Public Affairs. Effective April 13, 2000.

Special Assistant to the Director, Office of Scheduling and Advance. Effective April 20, 2000.

Special Assistant to the Assistant Secretary, Office of Environment, Safety and Health. Effective April 25, 2000.

Department of Labor

Secretary's Representative Kansas City, MO to the Associate Director. Effective April 14, 2000.

Department of State

Public Affairs Specialist to the Assistant Secretary, Bureau of Public Affairs. Effective April 10, 2000.

Public Affairs Specialist to the Deputy Assistant Secretary, Bureau of Public Affairs. Effective April 25, 2000.

Public Affairs Specialist to the Deputy Assistant Secretary, Bureau of Public Affairs. Effective April 25, 2000.

Department of Transportation

Special Assistant to the Assistant Secretary for Transportation Policy. Effective April 7, 2000.

Department of the Treasury

Director of Strategic Planning, Scheduling and Advance to the Chief of Staff. Effective April 28, 2000.

Small Business Administration

Regional Administrator to the Assistant Administrator, Field Operations. Effective April 7, 2000.

U.S. Chemical Safety and Hazard Investigation Board

Special Assistant to the Board Member. Effective April 28, 2000.

U.S. International Trade Commission

Senior Economist to the Commissioner. Effective April 13, 2000.

Authority: 5 U.S.C. 3301 and 3302; E.O. 10577, 3 CFR 1954-1958 Comp., P.218

Office of Personnel Management.
Janice R. Lachance,
Director.

[FR Doc. 00-15794 Filed 6-21-00; 8:45 am]

BILLING CODE 6325-01-U